DEPARTMENT OF STATE

[Public Notice 8783]

30-Day Notice of Proposed Information Collection: J-1 Waiver Recommendation Application

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to July 28, 2014.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, Sydney Taylor, who may be reached at PRA_BurdenComments@state.gov.

SUPPLEMENTARY INFORMATION: • Title of Information Collection: 1405-0135.

• OMB Control Number: Extension of a currently approved collection.

• Type of Request: Extension of a currently approved collection.

• Originating Office: CA/VO/L/R.

• Form Number: DS-3035.

• Respondents: J-1 visa holders applying for a waiver of the two-year foreign residence requirement.

• Estimated Number of Respondents: 6,087.

• Estimated Number of Responses: 6,087.

• Average Time per Response: 1 hour.

• Total Estimated Burden Time: 6,087 hours.

• Frequency: On occasion.

• Obligation to Respond: Required to obtain or retain a benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: Form DS-3035 is used to determine the eligibility of a J-1 visa holder for a waiver of the two-year foreign residence requirement.

Methodology: Applicants will complete the DS-3035 online at travel.state.gov. Applicant's information will be downloaded into a barcode, and then be immediately issued a waiver case number and further instructions. Next, applicants must print their online form with the barcode. After the form is completed and printed out, applicants must mail their waiver application and fee payment to: U.S. Department of State, Waiver Review Division, P.O. Box 952136, St. Louis, MO 63101-2137.

Dated: June 9, 2014.
Don Heflin,
Acting Deputy Assistant Secretary, Bureau of Consular Affairs, Department of State.

[FR Doc. 2014-15168 Filed 6-26-14; 8:45 am]

BILLING CODE 4710-06-P